DEPARTMENT OF HOMELAND SECURITY

U.S. Customs and Border Protection

Customs Brokers User Fee Payment for 2015

AGENCY: U.S. Customs and Border Protection, Department of Homeland Security.

ACTION: General notice.

SUMMARY: This document provides notice to customs brokers that the annual fee of $138 that is assessed for each permit held by a broker, whether it may be an individual, partnership, association, or corporation, is due by February 27, 2015.

DATES: Payment of the 2015 Customs Broker User Fee is due by February 27, 2015.

FOR FURTHER INFORMATION CONTACT: Brian Barulich, Broker Management Branch, Office of International Trade, (202) 863-6099.

SUPPLEMENTARY INFORMATION: Pursuant to § 111.96 of title 19 of the Code of Federal Regulations (19 CFR 111.96(c)), U.S. Customs and Border Protection (CBP) assesses an annual user fee of $138 for each customs broker district and national permit held by an individual, partnership, association, or corporation. CBP regulations provide that this fee is payable for each calendar year in each broker district where the broker was issued a permit to do business by the due date which is published in the Federal Register annually. See 19 CFR 24.22(h) and (i)(9). Broker districts are defined in the General Notice entitled, “Geographical Boundaries of Customs Brokerage, Cartage and Lighterage Districts” published in the Federal Register on September 27, 1995 (60 FR 49971).

As required by 19 CFR 111.96, CBP must provide notice in the Federal Register no later than 60 days before such due date on which the payment is due for each broker permit. This document notifies customs brokers that for calendar year 2015, the due date for payment of the user fee is February 27, 2015. It is anticipated that for subsequent years, the annual user fee for customs brokers will be due on the last business day of February of each year.

Dated: December 17, 2014.
Brenda B. Smith,
Assistant Commissioner, Office of International Trade.

[FR Doc. 2014-29942 Filed 12-19-14; 8:45 am]

BILLING CODE 9111-14-P